DEPARTMENT OF AGRICULTURE

Natural Resources Conservation Service

Environmental Quality Incentives Program in the Five States Grazing Emphasis Geographic Priority Area

AGENCY: USDA—Natural Resources Conservation Service.

ACTION: “Notice of a Finding of No Significant Impact”.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Environmental Quality Incentives Program in the Five States Grazing Emphasis Geographic Priority Area, Colfax, Curry, Harding, Lea, Mora, Quay, Roosevelt, San Miguel, Union Counties, New Mexico.

FOR FURTHER INFORMATION CONTACT: Rosendo Trevino, State Conservationist, Natural Resources Conservation Service, 6200 Jefferson NE, Albuquerque, New Mexico, 87109, telephone (505) 761-4400.

SUPPLEMENTARY INFORMATION: The environmental assessment of this federally assisted action indicates that the project will not cause significant local, regional, or national impacts on the environment. As a result of these findings, Rosendo Trevino, State Conservationist, has determined that the preparation and review of an environmental impact statement are not needed for this project.

The measure concerns a plan for land cover improvement. The planned works of improvement involve brush management, grazing management, and facilitating practices.

The Finding of No Significant Impact (FNSI) has been forwarded to the Environmental Protection Agency and to various Federal, State, and local agencies and interested parties. A limited number of copies of the FNSI are available to fill single copy requests at the above address. Basic data developed during the environmental assessment are on file and may be reviewed by contacting Rosendo Trevino.

No administrative action on implementation of the proposal will be taken until 30 days after the date of this publication in the Federal Register.

(This activity is listed in the Catalog of Federal Domestic Assistance under No. 10.912, Environmental Quality Incentives Program)
Dated: June 28, 2000.
Kenneth B. Leiting,
Acting State Conservationist.

[FR Doc. 00-17283 Filed 7-7-00; 8:45 am]

BILLING CODE 3410-16-P